DEPARTMENT OF THE INTERIOR

Bureau of Land Management

[WY-100-1430-EU; WYW-146697]

Notice of Realty Action; Recreation and Public Purposes (R&PP) Act Classification; Wyoming

AGENCY: Bureau of Land Management, Interior.

ACTION: Notice.

SUMMARY: The following public lands located near Pinedale, Wyoming, have been examined and found suitable for classification for conveyance to Sublette County under the provisions of the Recreation and Public Purposes Act, as amended (43 U.S.C. 869 et seq.). Sublette County intends to use the land as a shooting sports complex.

Sixth Principal Meridian

T. 33 N., R. 109 W.,

Section 7, Lots 1 and 2.

T. 33 N., R. 110 W.

Section 12, S½NE¼NE¼, SE¼NE¼.

The land described above contains 132.67 acres.

FOR FURTHER INFORMATION CONTACT: Detailed information concerning this action is available for review at the Pinedale Field Office, Bureau of Land Management, 432 East Mill Street, P.O. Box 768, Pinedale, Wyoming 82941, or contact Bill Wadsworth at (307) 367-5341.

SUPPLEMENTARY INFORMATION: The lands are not needed for Federal purposes. Conveyance is consistent with current BLM land use planning and would be in the public interest. The conveyances, when completed, will be subject to the following terms, conditions and reservations:

1. Provisions of the Recreation and Public Purposes Act and to all applicable regulations of the Secretary of the Interior.

2. All valid existing rights documented on the official public land records at the time of patent issuance.

3. All minerals shall be reserved to the United States, together with the right to prospect for, mine, and remove the minerals.

4. A right-of-way for ditches and canals constructed by the authority of the United States. Upon publication of this notice in the Federal Register, the lands will be segregated from all other forms of appropriation under the public land laws, including the general mining laws, except for conveyance under the Recreation and Public Purposes Act and leasing under the mineral leasing laws.

For a period of 45 days from the date of publication of this notice in the Federal Register, interested parties may submit comments regarding the proposed conveyance or classification of the lands to the Field Manager, Bureau of Land Management, Pinedale Field Office, P.O. Box 768, Pinedale, Wyoming 82941.

The analysis may identify that an amendment to the Pinedale RMP is needed. If a plan amendment is needed, other notices, mailings, or media releases will announce a 30-day protest period on the proposed amendment.

Classification Comments

Interested parties may submit comments involving the suitability of the lands for a shooting sports complex. Comments on the classification should only address whether the land is physically suited for a shooting sports complex (as appropriate), whether the use will maximize the future use or uses of the land, whether the use is consistent with local planning and zoning, or if the use is consistent with State and Federal programs.

Application Comments

Interested parties may submit comments regarding the specific uses proposed in the conveyance applications and plans of development, whether the BLM followed proper administrative procedures in reaching the decisions, or any other factor not directly related to the suitability of the land for a shooting sports complex. Any adverse comments will be reviewed by the State Director. In the absence of any adverse comments, the classification will become effective 60 days from the date of publication of this notice in the Federal Register.

Dated: May 4, 2000.
Priscilla Mecham,
Field Manager.

[FR Doc. 00-12574 Filed 5-17-00; 8:45 am]

BILLING CODE 4310-84-M